DEPARTMENT OF THE INTERIOR

Bureau of Land Management

[AZA 24749A]

Notice of Application for Withdrawal and Opportunity for Public Meeting; Arizona

AGENCY: Bureau of Land Management, Interior.

ACTION: Notice.

SUMMARY: The United States Department of the Navy (DON) filed an application with the Bureau of Land Management (BLM) requesting the Secretary of the Interior to withdraw approximately 26.794 acres of public land within the DON Marine Corps Air Station, Yuma (MCAS, Yuma), for a period of 20 years, from settlement, sale, location, or entry under the public land laws, including the United States mining and mineral leasing laws. The DON has also requested that jurisdiction of these lands be transferred to the Department of Defense for the use of MCAS, Yuma. The purpose of the withdrawal would be to protect the existing structures and facilities that were installed or developed under the prior withdrawal, Public Land Order No. 6804, which expired in 2010. This notice temporarily segregates the land for up to 2 years while the withdrawal application is being considered. This notice also gives the public an opportunity to comment on the withdrawal application and to request a public meeting.

DATES: Comments and/or requests for a public meeting should be received by April 19, 2016.

ADDRESSES: Comments and/or requests for a public meeting should be sent to Arizona State Director, Bureau of Land Management, One North Central Avenue, Suite 800, Phoenix, Arizona 85004.

FOR FURTHER INFORMATION CONTACT: Sara Ferreira, BLM, Arizona State Office, 602-417-9598, or Candice Holzer, BLM, Yuma Field Office, 928-317-3253, during regular business hours, 8 a.m. to 4:30 p.m., Monday through Friday, except holidays. Persons who use a telecommunications device for the deaf (TDD) may call the Federal Information Relay Service (FIRS) at 1-800-877-8339 to contact either individual. The FIRS is available 24 hours a day, 7 days a week, to leave a message or question with either of the above individuals. You will receive a reply during normal business hours.

SUPPLEMENTARY INFORMATION: The DON filed an application requesting the Secretary of the Interior withdraw, subject to valid existing rights, the following described land from location and entry under the United States mining laws:

Gila and Salt River Meridian

T. 9 S., R. 23 W.,

Sec. 11, Tract B.

The area described contains approximately 26.794 acres of public lands in Yuma County.

The use of a right-of-way, interagency agreement, or cooperative agreement would not adequately constrain non-discretionary uses and would not provide adequate protection of the structures and facilities on this parcel within MCAS, Yuma.

There are no suitable alternative sites with equal or greater benefit to the government.

No additional water rights will be needed to fulfill the purpose of the requested withdrawal.

Records related to the application may be examined by contacting the individual listed above.

Comments or Requests for Public Meetings: For a period until April 19, 2016, all persons who wish to submit comments, suggestions, or objections in connection with the proposed withdrawal may present their views in writing to the BLM Arizona State Office at the address listed above.

Notice is also hereby given that the opportunity for a public meeting is afforded in connection with the proposed withdrawal. All interested parties who desire a public meeting for the purpose of being heard on the proposed withdrawal must submit a written request to the BLM Arizona State Office at the address listed above by April 19, 2016.

If the BLM authorized officer determines that the BLM/DON will hold a public meeting, the BLM will publish a notice of the time and place in the Federal Register and a local newspaper at least 30 days before the scheduled date of the meeting.

Before including your address, telephone number, email address, or other personal identifying information in your comment, you should be aware that your entire comment including your personal identifying information may be made publicly available at any time. Individuals that submit written comments may request confidentiality by asking us in your comment to withhold your personal identifying information from public review, however, we cannot guarantee that we will be able to do so.

Temporary Segregation: For a period until January 22, 2018 the public land described in this notice will be segregated from location and entry under the United States mining laws, but not from leasing under the mineral or geothermal leasing laws, unless the application is canceled or denied, or the withdrawal is approved prior to that date. The temporary land uses that may be permitted during the temporary segregation period include licenses, permits, rights-of-way, and disposal of vegetative resources other than under the mining laws.

The application will be processed in accordance with the regulations set forth in 43 CFR part 2310.

Ray Suazo,
State Director, Arizona State Office.

[FR Doc. 2016-00885 Filed 1-19-16; 8:45 am]

BILLING CODE 3810-FF-P\